ENVIRONMENTAL PROTECTION AGENCY

[FRL-7249-8]

Agency Information Collection Activities: Submission for OMB Review; Comment Request; National Emission Standards for Hazardous Air Pollutants (NESHAP) for Primary Lead Smelters

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standards for Hazardous Air Pollutants (NESHAP) for Primary Lead Smelters; 40 CFR part 63, subpart TTT; OMB Control Number 2060-0414, expiration date July 31, 2002. The ICR describes the nature of the information collection and its expected burden and cost; where appropriate, it includes the actual data collection instrument.

DATES: Comments must be submitted on or before August 22, 2002.

ADDRESSES: Send comments, referencing EPA ICR Number 1856.03 and OMB Control Number 2060-0414, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epamail.epa.gov, or download off the Internet at http://www.epa.gov/icr and refer to EPA ICR Number 1856.03. For technical questions about the ICR contact Maria Malave in the Office of Compliance at (202) 564-7027 or via E-mail to malave.maria@epa.gov.

SUPPLEMENTARY INFORMATION: Title: National Emission Standards for Hazardous Air Pollutants (NESHAP) for Primary Lead Smelters; 40 CFR part 63, subpart TTT, OMB Control No. 2060-0414, expiration date July 31, 2002. This is a request for extension of a currently approved collection.

Abstract: The National Emission Standards for Hazardous Air Pollutants (NESHAP) for Primary Lead Smelters, published at 40 CFR part 63, subpart TTT, were proposed on April 17, 1998 (63 FR 19200), and promulgated on June 4, 1999 (64 FR 30204). On February 12, 1999, the Agency publicized a supplemental rulemaking for ferroalloys, mineral wool, primary copper, primary lead and wool fiberglass. The supplemental for this rule enhances the requirements of the bag leak detection systems in 40 CFR 63.1625 and 40 CFR 63.1655 of the proposed rule to include an enforceable operating limit. This rule applies to emissions sources (i.e., sinter machine, blast furnace, dross furnace, process fugitive, and fugitive dust sources) from primary lead smelters.

The monitoring, recordkeeping, and reporting requirements outlined in the rule are similar to those required for other NESHAP regulations. Plants must demonstrate compliance with the emission standards by monitoring their control devices and performing annual emissions testing. Consistent with the NESHAP General Provisions (40 CFR part 63, subpart A), all sources subject to this standard are required to submit one-time notifications of applicability; a one-time report on performance test results for the primary emission control device; an initial report specifying the intended methods of compliance; standard operating procedure manuals for baghouses and fugitive dust control; and a semiannual report that includes a summary of the monitoring results, any baghouse leak detection system alarms and corrective actions. Sources must also maintain records of production for unrefined lead, copper matte, and copper speiss; the date and times of bag leak detection system alarms and the corrective action taken; baghouse inspection and maintenance; any records required as part of the source standard operating procedures manuals; and the compliance methods chosen. Records shall be maintained for a period of 5 years. Records of the most recent 2 years of operation must be maintained onsite.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001; no comments were received.

Burden Statement: The annual public reporting and record keeping burden for this collection of information is estimated to average 3,061 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Primary lead smelters.

Estimated Number of Respondents: 2.

Frequency of Response: Semiannual.

Estimated Total Annual Hour Burden: 12,246 hours.

Estimated Total Annualized Capital, O&M Cost Burden: $6,451,878.

Send comments on the Agency's need for this information, the accuracy of the provided burden estimates, and any suggested methods for minimizing respondent burden, including through the use of automated collection techniques to the addresses listed above. Please refer to EPA ICR Number 1856.03; OMB Control Number 2060-0414 in any correspondence.

Dated: July 12, 2002.
Oscar Morales,
Director, Collection Strategies Division.

[FR Doc. 02-18578 Filed 7-22-02; 8:45 am]

BILLING CODE 6560-50-P